Title 3—

The President

Proclamation 9799 of October 5, 2018

German-American Day, 2018

By the President of the United States of America

A Proclamation

German Americans have helped build our Republic, shape our heritage, and enrich our culture since the arrival of the first German settlers in the New World on October 6, 1683. They brought with them and instilled in their descendants a desire for liberty and dreams of a better life. Our history is replete with examples of their commitment to civic engagement, hard work, and invention. On German-American Day, we proudly celebrate the invaluable contributions that Americans of German descent—the largest ancestry group in the United States—have made to every facet of our society.

More than 43 million Americans proudly claim German heritage, linked by the shared sense of entrepreneurship and tradition German-American pioneers have instilled in our great country. The industry and ingenuity of German Americans shaped and continue to impact our national landscape. They played a central role in establishing and building some of our great American cities, including Philadelphia, Pennsylvania; Cincinnati, Ohio; St. Louis, Missouri; Milwaukee, Wisconsin; and others. German Americans have made an indelible mark on business, agriculture, art, design, science, technology, and education. German Americans also have a proud history of military service, including the more than 200,000 who served in the Union Army during the Civil War.

The deep bond between our Nation and Germany, which predates our independence, continues today. Together, we are a cornerstone of the transatlantic alliance and champions of economic and personal freedom. As Germany launches its yearlong German-American friendship festival, Wunderbar Together, we proudly honor these strong historical ties and examine how we will build on our partnership in the years to come.

NOW, THEREFORE, I, DONALD J. TRUMP, President of the United States of America, by virtue of the authority vested in me by the Constitution and the laws of the United States, do hereby proclaim October 6, 2018, as German-American Day. I call upon all Americans to celebrate the achievements and contributions of German Americans with appropriate ceremonies, activities, and programs.

IN WITNESS WHEREOF, I have hereunto set my hand this fifth day of October, in the year of our Lord two thousand eighteen, and of the Independence of the United States of America the two hundred and forty-third.

[FR Doc. 2018-22232

Filed 10-9-18; 11:15 am]

Billing code 3295-F9-P